DEPARTMENT OF COMMERCE

International Trade Administration

[A-557-816]

Certain Steel Nails From Malaysia: Preliminary Results of Antidumping Duty Administrative Review and Preliminary Rescission of Review, in Part; 2022-2023

AGENCY: Enforcement and Compliance, International Trade Administration, Department of Commerce.

SUMMARY: The U.S. Department of Commerce (Commerce) preliminarily finds that certain producers and/or exporters subject to this administrative review made sales of subject merchandise at less than normal value during the period of review (POR) July 1, 2022, through June 30, 2023. Interested parties are invited to comment on these preliminary results.

DATES: Applicable July 30, 2024.

FOR FURTHER INFORMATION CONTACT: Peter K. Farrell or John K. Drury, AD/CVD Operations, Office VI, Enforcement and Compliance, International Trade Administration, U.S. Department of Commerce, 1401 Constitution Avenue NW, Washington, DC 20230; telephone: (202) 482-2104 or (202) 482-0195, respectively.

SUPPLEMENTARY INFORMATION:

Background

On July 13, 2015, Commerce published in the Federal Register an antidumping duty order on certain steel nails from Malaysia.¹ On September 11, 2023, Commerce published the notice of initiation of the administrative review of the Order.² On March 18, 2024, we extended the time limit for completion of these preliminary results to July 23, 2024, in accordance with section 751(a)(3)(A) of the Tariff Act of 1930, as amended (the Act).³ On July 22, 2024, Commerce tolled certain deadlines in this administrative proceeding by seven days.⁴ The deadline for the preliminary results is now July 30, 2024.

¹ See Certain Steel Nails from the Republic of Korea, Malaysia, the Sultanate of Oman, Taiwan, and the Socialist Republic of Vietnam: Antidumping Duty Orders, 80 FR 39994 (July 13, 2015) (Order).

² See Initiation of Antidumping and Countervailing Duty Administrative Reviews, 88 FR 62322 (September 11, 2023).

³ See Memorandum, “Extension of Deadline for Preliminary Results of Antidumping Duty Administrative Review,” dated March 18, 2024.

⁴ See Memorandum, “Tolling of Deadlines for Antidumping and Countervailing Duty Proceedings,” dated July 22, 2024.

For a complete description of the events that followed the initiation of this review, see the Preliminary Decision Memorandum.⁵ A list of the topics discussed in the Preliminary Decision Memorandum is included as Appendix I. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁵ See Memorandum, “Decision Memorandum for the Preliminary Results of the Administrative Review of the Antidumping Duty Order on Certain Steel Nails from Malaysia; 2022-2023,” dated concurrently with, and hereby adopted by, this notice (Preliminary Decision Memorandum).

Scope of the Order

The products covered by the scope of the Order are certain steel nails from Malaysia. For a complete description of the scope of the Order, see the Preliminary Decision Memorandum.

Preliminary Determination of No Shipments

Between October 4 and 11, 2023, we received letters from non-selected respondents Astrotech Steels Private Limited (Astrotech), Geekay Wires Limited (Geekay), Modern Factory for Steel Industries Co. Ltd. (Modern Factory), Trinity Steel Private Limited (Trinity), and Oman Fasteners LLC (Oman Fasteners) timely notifying Commerce that they had no exports, sales, or entries of subject merchandise during the POR.⁶ We issued a no-shipment inquiry to U.S. Customs and Border Protection (CBP) with respect to each of these companies, and CBP responded that it has no record of any shipments of subject merchandise for these companies during the POR.⁷ The record, therefore, demonstrates that Astrotech, Geekay, Modern Factory, Trinity, and Oman Fasteners had no shipments during the POR. On this basis, we are preliminarily rescinding the review with respect to Astrotech, Geekay, Modern Factory, Trinity, and Oman Fasteners, and will issue appropriate instructions to CBP based on the final results of this review.⁸

⁶ See Geekay's Letter, “Request for No Shipment during the Period of Review (POR),” dated October 4, 2023; Modern Factory's Letter, “Request for No Shipment during the Period of Review (POR),” dated October 5, 2023; Trinity's Letter, “Notice of No Sales during the Period of Review (POR),” dated October 4, 2023; Astrotech's Letter, “Request for No Shipment during the Period of Review (POR),” dated October 4, 2023; and Oman Fasteners' Letter, “No Shipments Letter,” dated October 11, 2023.

⁷ See Memorandum, “No Shipment Inquiry for Multiple Companies During the Period 07/01/2022 through 06/30/2023,” dated December 12, 2023.

⁸ We invite interested parties to comment on the preliminary rescission.

Methodology

Commerce is conducting this review in accordance with section 751(a) of the Act. For a full description of the methodology underlying these preliminary results, see the Preliminary Decision Memorandum.

Rate for Non-Selected Respondents

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In these preliminary results, we have calculated a non-de minimis weighted-average dumping margins for both Region International Co., Ltd. and Region System Sdn. Bhd. (collectively, Region) and Inmax Sdn. Bhd. and Inmax Industries Sdn. Bhd. (collectively, Inmax). Region's and Inmax's weighted-average dumping margins were not determined entirely on the basis of facts available. Accordingly, for the preliminary results of this review, we are assigning a dumping margin which is determined as the simple average of the margins for Region and Inmax to the non-selected mandatory respondents. Therefore, the preliminary rate for non-selected respondents is 1.01 percent.

Preliminary Results of Review

We preliminarily determine that the following weighted-average dumping margins exist for the period July 1, 2022, through June 30, 2023:

Exporter/Producer | Estimated weighted-average dumping margin (percent)
Inmax Sdn. Bhd. and Inmax Industries Sdn. Bhd | 0.74
Region International Co., Ltd. and Region System Sd. Bhd | 1.28
Non-Selected Respondents ⁹ | 1.01

Disclosure and Public Comment

⁹ See Appendix II for the list of non-selected respondents.

Commerce intends to disclose its calculations and analysis performed to interested parties for these preliminary results within five days of any public announcement or, if there is no public announcement, within five days of the date of publication of this notice in accordance with 19 CFR 351.224(b).

Pursuant to 19 CFR 351.309(c), interested parties may submit case briefs or other written comments to the Assistant Secretary for Enforcement and Compliance no later than 30 days after the date of publication of this notice. Rebuttal briefs, limited to issues raised in the case briefs, may be filed not later than five days after the date for filing case briefs.¹⁰ Interested parties who submit case briefs or rebuttal briefs in this proceeding must submit: (1) a table of contents listing each issue; and (2) a table of authorities.¹¹

¹⁰ See 19 CFR 351.309(d); see also Administrative Protective Order, Service, and Other Procedures in Antidumping and Countervailing Duty Proceedings, 88 FR 67069, 67077 (September 29, 2023) (APO and Service Final Rule).

¹¹ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹² Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹³

¹² We use the term “issue” here to describe an argument that Commerce would normally address in a comment of the Issues and Decision Memorandum.

¹³ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results of Review

Commerce intends to issue the final results of this administrative review, including the results of its analysis of the issues raised in any written briefs, no later than 120 days after the date of publication of this notice in the Federal Register, unless extended, pursuant to section 751(a)(3)(A) of the Act and 19 CFR 351.213(h)(1).

Assessment Rates

Upon completion of this administrative review, pursuant to section 751(a)(2)(A) of the Act, Commerce shall determine, and U.S. Customs and Border Protection (CBP) shall assess, antidumping duties on all appropriate entries covered by this review. If the weighted-average dumping margin for a mandatory respondent is not zero or de minimis in the final results of this review, we will calculate an importer-specific assessment rate on the basis of the ratio of the total amount of dumping calculated for each importer's examined sales and the total entered value of such sales in accordance with 19 CFR 351.212(b)(1).¹⁴ If the weighted-average dumping margin is zero or de minimis in the final results of review, or if an importer-specific assessment rate is zero or de minimis, Commerce will instruct CBP to liquidate appropriate entries without regard to antidumping duties.¹⁵ For entries of subject merchandise during the POR produced by the respondent(s) for which it did not know its merchandise was destined for the United States, we will instruct CBP to liquidate such entries at the all-others rate if there is no rate for the intermediate company(ies) involved in the transaction.¹⁶ The final results of this administrative review shall be the basis for the assessment of antidumping duties on entries of merchandise under review and for future cash deposits of estimated antidumping duties, where applicable.

¹⁴ See Antidumping Proceedings: Calculation of the Weighted-Average Dumping Margin and Assessment Rate in Certain Antidumping Proceedings: Final Modification, 77 FR 8101, 8103 (February 14, 2012).

¹⁵ Id., 77 FR at 8102-03; see also 19 CFR 351.106(c)(2).

¹⁶ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the final results of this administrative review for all shipments of the subject merchandise entered, or withdrawn from warehouse, for consumption on or after the date of publication, as provided by section 751(a)(2)(C) of the Act: (1) the cash deposit rate for companies subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation but the producer is, then the cash deposit rate will be the rate established in the most recently completed segment of the proceeding for the producer of the merchandise; and (4) the cash deposit rate for all other producers or exporters will continue to be 2.66 percent, the all-others rate established in the less-than-fair-value investigation.¹⁷ These cash deposit requirements, when imposed, shall remain in effect until further notice.

¹⁷ See Certain Steel Nails from Malaysia: Final Determination of Sales at Less Than Fair Value, 80 FR 28969 (May 20, 2015).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act, and 19 CFR 351.213(h)(2) and 19 CFR 351.221(b)(4).

Dated: July 23, 2024.
Abdelali Elouaradia,
Deputy Assistant Secretary for Enforcement and Compliance.

Appendix I

List of Topics Discussed in the Preliminary Decision Memorandum

I. Summary

II. Background

III. Scope of the Order

IV. Rate for Non-Selected Respondents

V. Preliminary Determination of No Shipments

VI. Discussion of the Methodology

VII. Currency Conversion

VIII. Recommendation

Appendix II

Companies Not Selected for Individual Review

1. Alsons Manufacturing India, LLP

2. Asia Bolts & Nuts Sdn. Bhd.

3. AV Fastener (M) Sdn. Bhd.

4. Chia Pao Metal Co., Ltd.

5. Chin Lai Hardware Sdn. Bhd.

6. Chin Well Fasteners Co.

7. Chuan Heng Hardware Paints and Building Materials Sdn. Bhd.

8. Come Best (Thailand) Co., Ltd.

9. Gbo Fastening Systems AB.

10. Gripwell Fastening (M) Sdn. Bhd.

11. Impress Steel Wire Industries Sdn. Bhd.

12. Fastenal Malaysia Sdn. Bhd.

13. Fuji Fastener Manufacturing Sdn. Bhd.

14. Kerry-Apex (Thailand) Co., Ltd.

15. Kimmu Trading Sdn., Bhd.

16. Kimmu Industries Sdn. Bhd.

17. Madura Fasteners Sdn. Bhd.

18. Multi Venture Resources Sdn. Bhd.

19. RM Wire Industries Sdn. Bhd.

20. S.H. Chooi Fasteners

21. SK Bolts & Fasteners Sdn. Bhd.

22. Soon Shing Building Materials Sdn. Bhd.

23. Storeit Services LLP

24. Sunmat Industries Sdn. Bhd.

25. Tag Fasteners Sdn. Bhd.

26. Tag Staples Sdn. Bhd.

27. Tampin Sin Yong Wai Industry Sdn. Bhd.

28. Top Remac Industries

29. UD Industries Sdn. Bhd.

30. Vien Group Sdn. Bhd.

31. Watasan Industries Sdn. Bhd.

32. Winston Mayer Sdn. Bhd.

33. Wing Tai Fastener Manufacturer

34. WWL India Private Ltd.

35. Yew Siong Industrial Supplies Sdn. Bhd.

[FR Doc. 2024-16686 Filed 7-29-24; 8:45 am]

BILLING CODE 3510-DS-P